DEPARTMENT OF THE INTERIOR

Bureau of Land Management

[NMNM 103474]

Public Land Order No. 7535; Withdrawal of National Forest System Land for the Sandia Administrative Site and the Tijeras Pueblo Interpretive Site; New Mexico

AGENCY: Bureau of Land Management, Interior.

ACTION: Public land order.

SUMMARY: This order withdraws 14.42 acres of National Forest System land from location and entry under the United States mining laws for 20 years to protect the Sandia Administrative Site and the Tijeras Pueblo Interpretive Site.

EFFECTIVE DATE: September 5, 2002.

FOR FURTHER INFORMATION CONTACT: Sue McHenry, Cibola National Forest, 2113 Osuna Rd, NE, Suite A, Albuquerque, New Mexico 87113, 505-346-2650.

Order

By virtue of the authority vested in the Secretary of the Interior by Section 204 of the Federal Land Policy and Management Act of 1976, 43 U.S.C. 1714 (1994), it is ordered as follows:

1. Subject to valid existing rights, the following described National Forest System land is hereby withdrawn from location and entry under the United States mining laws, 30 U.S.C. Ch. 2 (1994), to protect the Sandia Administrative Site and the Tijeras Pueblo Interpretive Site:

Cibola National Forest

New Mexico Principal Meridian

T. 10 N., R. 5 E.,

Sec. 23, SW¼NW¼SW¼ and N½NW¼SW¼SW¼.

The area described contains 14.42 acres in Bernalillo County.

2. This withdrawal will expire 20 years from the effective date of this order unless, as a result of a review conducted before the expiration date pursuant to Section 204(f) of the Federal Land Policy and Management Act of 1976, 43 U.S.C. 1714(f) (1994), the Secretary determines that the withdrawal shall be extended.

Dated: August 9, 2002.
Rebecca W. Watson,
Assistant Secretary—Land and Minerals Management.

[FR Doc. 02-22589 Filed 9-4-02; 8:45 am]

BILLING CODE 3410-11-P